ENVIRONMENTAL PROTECTION AGENCY

[FRL-7948-2, OA-2005-0003]

Description of Collaboration With the Environmental Council of the States Regarding National Environmental Performance Track and State Performance-Based Environmental Leadership Programs

AGENCY: Environmental Protection Agency (EPA).

ACTION: Notice.

SUMMARY: This notice describes and seeks public comment about a collaborative effort between EPA and the Environmental Council of the States (ECOS). This effort seeks to integrate performance-based environmental leadership programs into standard operating procedures for states and EPA in order to identify, develop, and implement incentives for top environmental performers that are part of state and federal performance-based environmental leadership programs. EPA will convene a public meeting on October 19, 2005, in Chicago, Illinois, to solicit stakeholder input on the preliminary results of these collaborations.

DATES: A public meeting will be held on October 19, 2005. EPA will accept comments until October 31, 2005. EPA encourages those interested in attending the public meeting to reply to EPA via the docket with their intent by October 4, 2005.

ADDRESSES: Comments may be submitted to: Office of Administrator Docket, Environmental Protection Agency, 1200 Pennsylvania Ave., NW., Washington, DC, 20460. Attention Docket ID No. OA-2005-0003. Comments may also be submitted electronically or through hand delivery or courier, see details in section I.B.1 of the Supplementary Information Section of this notice. The public meeting will be held in Chicago, Illinois at the Hilton Chicago Hotel, 720 South Michigan Avenue, from 9 a.m. to 12 p.m. CDT.

EPA asks you to submit your information electronically, by mail, or through hand delivery/courier; simply follow the detailed instructions as provided in Unit I.B.1 of this notice.

FOR FURTHER INFORMATION CONTACT: Bob Sachs, Office of Policy, Economics, and Innovation. Phone: 202-566-2884; E-mail: sachs.robert@epa.gov.

SUPPLEMENTARY INFORMATION:

I. General Information

A. How Can I Get Copies of Related Information?

1. Docket. EPA has established an official public docket for this action under Docket ID No. OA-2005-0003. The official public docket is the collection of materials that is available for public viewing at the Office of Administrator Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744.

2. Electronic Access. An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

When a document is selected from the index list in EPA Dockets, the system will identify whether the document is available for viewing in EPA's electronic public docket. Although not all docket materials may be available electronically, you may still access any of the publicly available docket materials through the docket facility identified in Unit I.B of this notice. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

B. How and To Whom Do I Submit Comments?

You may submit comments electronically, by mail, or through hand delivery/courier. To ensure proper receipt by EPA, identify the appropriate docket identification number in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. OA-2005-0003. The system is an “anonymous access” system, which means EPA will not know your identity, e-mail address, or other contact information unless you provide it in the body of your comment.

ii. E-mail. Comments may be sent by electronic mail (e-mail) to oei.docket@epa.gov, Attention Docket ID No. OA-2005-0003. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit 1.A.1. These electronic submissions will be accepted in WordPerfect or ASCII file format. Avoid the use of special characters and any form of encryption.

2. By Mail. Send your comments to: Office of Administrator Docket, Environmental Protection Agency, 1200 Pennsylvania Ave., NW., Washington, DC, 20460 Attention Docket ID No. OA-2005-0003.

3. By Hand Delivery or Courier. Deliver your comments to: Office of Administrator Docket in the EPA Docket Center, (EPA/DC) EPA West, Room B102, 1301 Constitution Ave., NW., Washington, DC., Attention Docket ID No. OA-2005-0003. Such deliveries are only accepted during the Docket's normal hours of operation as identified in Unit 1.A.1.

II. Background

On June 26, 2000, The Environmental Protection Agency (EPA) launched the National Environmental Performance Track program (Performance Track). The program is designed to recognize and encourage top environmental performers who go beyond compliance with regulatory requirements to attain levels of environmental performance and management that benefit the environment. The program design was published in the Federal Register on July 6, 2000 (65 FR 41655). On April 22, 2004, EPA published a final rule that established certain regulatory incentives for Performance Track members (69 FR 21737). On May 17, 2004, EPA published a number of changes to the program, including the creation of a Corporate Leader designation (69 FR 27922). Additional information on Performance Track, including up-to-date member information and program criteria, can be found at http://www.epa.gov/performancetrack.

The program's current membership includes about 345 members from 46 states and Puerto Rico and represents virtually every major manufacturing sector as well as public-sector facilities at the federal, state, and local levels. Since the inception of the program, Performance Track members report that they have collectively reduced their water use by more than 1.3 billion gallons—enough to meet the water needs of New York City's 8 million inhabitants for a day. In addition, members have cut their generation of solid waste by nearly 600,000 tons and have decreased their energy use by more than 8.4 trillion British Thermal Units (BTUs), enough to power more than 80,600 homes for a year. In 2003 alone, Performance Track members reported collective reductions in energy use of 5.3 trillion BTUs; reductions in water use of 566 million gallons; and reductions in solid waste generation of 300,000 tons.

In addition to EPA, more than 20 states have active state-level performance-based environmental leadership programs, and an additional five states are currently developing programs. Nine states established programs before 2000, with the first program being implemented in 1995. The combined number of participants in these state programs is greater than 800. Many of these programs include dual membership with Performance Track at some level, while some exceed the federal program's requirements.

The fundamental goal of performance-based environmental leadership programs is to achieve environmental results greater than those achieved through traditional regulatory approaches. As such, these programs tend to focus on environmental outcomes such as reduced emissions, generating fewer tons of hazardous waste, or lower discharges of toxics to water, rather than operationally-based output measures such as the number of inspections or permits issued. These programs are designed to provide operational flexibility for the purpose of allowing high performers to focus their resources on improving their environmental performance beyond regulatory requirements. They also provide opportunities for state and federal regulators, as well as the regulated community, to more strategically target their financial and human resources in order to produce better overall environmental results.

III. ECOS Report

The Environmental Council of the States (ECOS) is the national non-profit, non-partisan association of state and territorial environmental agency commissioners (for additional information on ECOS, visit http://www.ecos.org). At the request of former EPA Administrator Mike Leavitt, ECOS prepared a report dated January 13, 2005 describing the level of support among states for Performance Track and state performance-based environmental leadership programs and recommended a number of actions states believe EPA should take to improve these programs' value and effectiveness. ECOS' recommendations are based on interviews with environmental commissioners and senior managers from 40 state environmental protection agencies, as well as with representatives of the Performance Track Participants Association (PTPA). The PTPA is a non-profit organization of Performance Track members (for additional information on PTPA, visit http://www.ptpaonline.org). The ECOS report is available in the docket for today's notice (OA-2005-0003) and at the Performance Track Web site at http://www.epa.gov/performancetrack/downloads/ECOS_Report_Final_01-13-05.pdf.

In its report, ECOS recommended several actions that can be undertaken to strengthen both Performance Track and state performance-based environmental leadership programs and make them core elements of the environmental protection system in the U.S. These recommendations fall into the following four main areas:

• Support state programs and state efforts to work with Performance Track;

• Assure program support from all EPA program offices;

• Provide better incentives to participants faster; and

• Conduct more strategic marketing and education of the program.

IV. EPA/ECOS Collaboration

EPA and ECOS are committed to actively implementing the recommendations in the January 2005 report. State environmental commissioners and EPA senior leaders will collaborate to focus on three specific areas: state support and EPA strategic planning (a combination of the first two recommendations); incentives; and recruitment and marketing. During spring 2005, EPA and ECOS convened workgroups related to the first two areas. EPA is working informally with states to coordinate recruitment and marketing efforts. The EPA/ECOS workgroups are planning to work through the fall of 2005 to accomplish the tasks outlined below.

Workgroup 1: Support State Performance-Based Environmental Leadership Programs and State Efforts to Work with Performance Track.

Workgroup 1 (or the Integration Workgroup) seeks to find ways to integrate Performance Track and state performance-based environmental leadership programs into current federal and state approaches for achieving environmental protection. The Integration Workgroup is investigating ways to obtain support from State and EPA Program and Regional offices to ensure these programs are recognized among the Agencies' planning priorities. The workgroup's tasks are as follows:

• Assess how to recognize and provide credit for environmental and compliance outcomes achieved through Performance Track and state performance-based environmental leadership programs.

• Develop guidance for including State performance-based environmental leadership programs in State/EPA environmental agreements (e.g., performance partnership agreements and grants).

• Develop language for FY '07 National Program Managers Guidance (and other appropriate Agency guidance) on how performance-based environmental leadership programs should be recognized and credited for their contributions to national program goals.

The Integration Workgroup's members represent four state environmental protection agencies; four EPA regional offices; four EPA media program offices; and several EPA headquarters offices (including the Office of Enforcement and Compliance Assurance.

Workgroup 2: Provide Better Incentives to Participants Faster

Workgroup 2 (or the Incentives Workgroup) seeks to revitalize the system for identifying, developing, and implementing effective incentives while minimizing transaction costs. This work is intended modify and to build on existing processes the agency and states use currently. The workgroup's tasks are as follows:

• Develop and implement a revitalized system for identifying, developing, and implementing incentives for Performance Track and state performance-based programs.

• Evaluate several specific ideas for incentives that may be of significant value to current and potential program members.

• Work with ECOS to evaluate potential regulatory and statutory options for improving and streamlining the incentives implementation process.

The Incentives Workgroup's members represent six state environmental protection agencies; three EPA regional offices; four EPA media program offices; and EPA's enforcement and general counsel offices.

V. Notice of Public Meeting

In order to provide an opportunity for stakeholder input on the EPA/ECOS workgroups, EPA will convene a public meeting on October 19, 2005 in Chicago, IL. The meeting will be held at the Hilton Chicago Hotel, 720 South Michigan Avenue, from 9 a.m. to 12 p.m. The purpose of the meeting is to solicit feedback on the workgroups' preliminary recommendations. The meeting will include brief presentations on Performance Track and representative state programs, a discussion of the workgroups' recommendations, and ample time for questions, answers, and comments. EPA welcomes comments now from interested parties regarding the charge and tasks of each workgroup.

Draft documents from workgroups 1 and 2 will be available in the E-Docket in September 2005, and on EPA's Performance Track website. EPA encourages the public to respond to the Docket to indicate interest in these issues, and intent to participate or attend the public meeting in Chicago in October. If possible, EPA encourages potential attendees to respond to EPA by October 4, 2005 through the Docket to indicate interest in attending the public meeting. EPA also seeks comment from interested parties about the draft documents that workgroups 1 and 2 will produce prior to the meeting. Comments may be sent to EPA as indicated in Unit 1.B. EPA will accept comments until October 31, 2005.

Dated: July 28, 2005.
Charles Kent,
Director, Office of Business and Community Innovation.

[FR Doc. 05-15438 Filed 8-3-05; 8:45 am]

BILLING CODE 6560-50-P